ADVISORY COUNCIL ON HISTORIC PRESERVATION

Notice of Meeting

AGENCY: Advisory Council on Historic Preservation.

SUMMARY: Notice is hereby given that the Advisory Council on Historic Preservation (ACHP) will meet on Friday, August 18, 2006. The meeting will be held in Salon B at the Cuartel de Ballaja, Calle Norzagaray Final, San Juan, Puerto Rico at 9:30 a.m.

The ACHP was established by the national Historic Preservation Act of 1966 (16 U.S.C. 470 et seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, and Transportation; the Administrators of the Environmental Protection Agency and General Services Administration; the chairman of the National Trust for Historic Preservation; the president of the National Conference of State Historic Preservation Officers; a Governor; a Mayor; a Native American; and eight non-Federal members appointed by the President.

The agenda for the meeting includes the following:

I. Chairman's Welcome.

II. ACHP Award for Federal Preserve America Achievement and Chairman's Award Presentation.

III. Preserve America Program Status Report.

A. ``The Preserve America Executive Order Report to the President''—Next Steps.

B. Preserve America Summit.

IV. ACHP Strategic Plan Discussion.

V. Report of the Preservation Initiatives Committee.

A. Heritage Tourism Issues.

B. Legislation.

VI. Report of the Federal Agency Programs Committee.

A. Update on Gulf Coast Recovery Efforts.

B. Agency Program Issues.

C. Section 106 Performance Measures.

VII. Report of the Communications, Education, and Outreach Committee.

A. Newspapers in Education Update.

B. 2007 Preserve America Presidential Award Initiative.

VIII. Report of the Native American Advisory Group.

IX. Report of the Affordable Housing and Historic Preservation Task Force.

X. Report of the Base Realignment and Closure Task Force.

XI. Chairman's Report.

A. ACHP Alumni Foundation.

B. Legislative Issues.

1. ACHP Reauthorization Legislation.

2. ACHP Appropriation.

XII. Executive Director's Report.

XIII. New Business.

XIV. Adjourn.

Note: The meetings of the ACHP are open to the public. If you need special accommodations due to a disability, please contact the Advisory Council on Historic Preservation, 1100 Pennsylvania Avenue, NW., Room 809, Washington, DC 202-606-8503, at least seven (7) days prior to the meeting.

FOR FURTHER INFORMATION CONTACT: Additional information concerning the meeting is available from the Executive Director, Advisory Council on Historic Preservation, 1100 Pennsylvania Avenue, NW., #809, Washington, DC 20004.

Dated: August 2, 2006.
John M. Fowler,
Executive Director.

[FR Doc. 06-6747 Filed 8-7-06; 8:45am]

BILLING CODE 4310-K6-M